DEPARTMENT OF ENERGY

Federal Energy Regulatory Commission

18 CFR Part 35

[Docket No. AD08-8-000]

Demand Response in Organized Electric Markets

May 13, 2008.

AGENCY: Federal Energy Regulatory Commission, DOE.

ACTION: Supplemental Notice of Technical Conference.

SUMMARY: The Commission is providing an agenda for the technical conference to be held in this proceeding on May 21, 2008, from 9 a.m. to 4:30 p.m. (EST), and detailed information regarding attendance, internet access, and transcripts. This conference will provide a forum to consider issues related to demand response in organized electric markets, as discussed in the Commission's Notice of Proposed Rulemaking which was issued on March 8, 2008 in Commission Docket Nos. RM07-19-000 and AD07-7-000.

FOR FURTHER INFORMATION CONTACT: Ryan Irwin, Office of Energy Market Regulation, Federal Energy Regulatory Commission, 888 First Street, NE., Washington, DC 20426, (202) 502-6454, Ryan.Irwin@ferc.gov.

Elizabeth Arnold, Office of the General Counsel—Energy Markets, Federal Energy Regulatory Commission, 888 First Street, NE., Washington, DC 20426, (202) 502-8818, Elizabeth.Arnold@ferc.gov.

On April 10, 2008, the Commission issued a Notice (April 10 Notice) scheduling a staff technical conference in the above-captioned proceeding. As stated in the April 10 Notice, the conference will provide a forum to consider issues related to demand response in organized electric markets, as discussed in the Notice of Proposed Rulemaking issued in Docket Nos. RM07-19-000 and AD07-7-000. Wholesale Competition in Regions with Organized Electric Markets, 73 FR 12,576 (Mar. 7, 2008), FERC Stats. & Regs. ¶ 32,682 at P 95 (2008) (Competition NOPR). The technical conference will be held on May 21, 2008, from 9 a.m. to 4:30 p.m. (EST), in the Commission Meeting Room at the Federal Energy Regulatory Commission, 888 First Street, NE., Washington, DC 20426. The conference will be open for the public to attend and advance registration is not required. Members of the Commission may attend the conference.

The agenda for this conference is attached. If any changes occur, the revised agenda will be posted on the calendar page for this event on the Commission's Web site, http://www.ferc.gov, prior to the event.

A free webcast of this event is available through http://www.ferc.gov. Anyone with internet access who desires to view this event can do so by navigating to the Calendar of Events at http://www.ferc.gov and locating this event in the Calendar. The event will contain a link to its webcast. The Capitol Connection provides technical support for the free webcasts. It also offers access to this event via television in the Washington, DC area and via phone-bridge for a fee. If you have any questions, visit http://www.CapitolConnection.org or contact Danelle Perkowski or David Reininger at (703) 993-3100.

Transcripts of the conference will be available immediately for a fee from Ace Reporting Company (202-347-3700 or 1-800-336-6646). They will be available for free on the Commission's eLibrary system and on the Calendar of Events approximately one week after the conference.

Commission conferences are accessible under section 508 of the Rehabilitation Act of 1973. For accessibility accommodations, please send an e-mail to accessibility@ferc.gov or call toll free 1-866-208-3372 (voice) or 202-208-1659 (TTY), or send a FAX to 202-208-2106 with the required accommodations.

For more information about this conference, please contact:

Ryan Irwin, Office of Energy Market Regulation, Federal Energy Regulatory Commission, 888 First Street, NE., Washington, DC 20426, (202) 502-6454, Ryan.Irwin@ferc.gov.

Elizabeth Arnold, Office of the General Counsel—Energy Markets, Federal Energy Regulatory Commission, 888 First Street, NE., Washington, DC 20426, (202) 502-8818, Elizabeth.Arnold@ferc.gov.

Kimberly D. Bose,
Secretary.

Demand Response in Organized Electric Markets Technical Conference

May 21, 2008

Agenda

9 a.m. Welcoming Remarks

9:20 Presentation by the Honorable Marsha Smith

Commissioner, Idaho Public Utilities Commission and President, National Association of Regulatory Utility Commissioners (NARUC), on behalf of NARUC.

9:45 Panel 1—Value of and Appropriate Compensation for Demand Response in Organized Electric Markets

This panel explores the value of demand response in organized electric markets and appropriate compensation for demand response under currently approved tariffs. In particular, this panel addresses the issue of ensuring that demand response resources are appropriately compensated in a manner that is comparable to other resources. The panel will examine whether demand response resources are appropriately valued for the benefit that they bring.

• Eric Woychik, Vice President, Regulatory Affairs, Comverge, Inc.

• Daniel Violette, Principal, Summit Blue Consulting.

• James Eber, Director—Demand Response and Dynamic Pricing, Commonwealth Edison Company.

• Lawrence Stalica, Vice President, Linde Energy Services, Inc.

• David Brewster, President, EnerNOC, Inc.

• Robert Borlick, Energy Consultant, Borlick Associates.

• David LaPlante, Vice President, Wholesale Markets Strategy, ISO New England Inc.

• Paul Peterson, Senior Associate, Synapse Energy Economics, Inc.

11:45 Lunch

1:15 Panel 2—Demand Response in Organized Markets—Barriers to Comparable Treatment and Solutions to Eliminate Potential Barriers: ISO New England, NYISO and PJM

This session addresses barriers to comparable treatment for demand response in the organized markets in ISO New England Inc., New York Independent System Operator, Inc. (NYISO) and PJM Interconnection, L.L.C. (PJM) and explores specific solutions for dealing with these barriers. Panelists are encouraged to address barriers to comparable treatment for demand response beyond those already identified in the Competition NOPR.

• The Honorable Anne George, Commissioner, Connecticut Department of Public Utility Control; Chair, NARUC Committee on Electricity and Co-Chair of NARUC-FERC Demand Response Collaborative.

• Andrew Ott, Senior Vice President—Markets, PJM Interconnection, L.L.C.

• Henry Yoshimura, Manager, Demand Response, ISO New England Inc.

• Paul Tyno, Executive Vice President of Program Development, Energy Curtailment Specialists, Inc.

• Edward Tatum, Jr., Vice President, RTO & Regulatory Affairs, Old Dominion Electric Cooperative.

• Timothy Roughan, Director of Distributed Resources, National Grid USA.

• Sandra Levine, Senior Attorney, Conservation Law Foundation.

2:45 Break

3 p.m. Panel 3—Demand Response in Organized Markets—Barriers to Comparable Treatment and Solutions to Eliminate Potential Barriers: CAISO, Midwest ISO, and SPP

This session addresses barriers to comparable treatment for demand response in the organized markets in California Independent System Operator Corporation (CAISO), Midwest Independent Transmission System Operator, Inc. (Midwest ISO), and Southwest Power Pool, Inc. (SPP) and explores specific solutions for dealing with these barriers. Panelists are encouraged to address barriers to comparable treatment for demand response beyond those already identified in the Competition NOPR.

• Dennis Derricks, Director, Electric Regulatory Policy, Integrys Energy Group Inc.

• DeWayne Todd, Power Manager, Alcoa.

• Michael Robinson, Senior Manager of Market Design, Midwest Independent Transmission System Operator, Inc.

• Jason Salmi Klotz, Senior Analyst, Energy Division, California Public Utilities Commission.

• Joyce Reives, Director, DPL Energy Resources Inc.

• H. Walter Johnson, Principal, Technology Strategies, California Independent System Operator Corporation.

• J. Craig Baker, Senior Vice President, Regulatory Services, American Electric Power.

4:30 Concluding Remarks

[FR Doc. E8-11314 Filed 5-20-08; 8:45 am]

BILLING CODE 6717-01-P